ENVIRONMENTAL PROTECTION AGENCY

[ER-FRL-6672-3]

Environmental Impacts Statements; Notice of Availability

Responsible Agency: Office of Federal Activities, General Information (202) 564-7167 or http://www.epa.gov/compliance/nepa/.

Weekly receipt of Environmental Impact Statements filed January 30, 2006 through February 3, 2006 pursuant to 40 CFR 1506.9.

EIS No. 20060036, Draft EIS, BLM, OR, North Steens Ecosystem Restoration Project, To Reduce Juniper-Related Fuels and Restore Various Plant Communities, Implementation, Andrews Resource Area, Cooperative Management and Protection Area (CMPA), Harney County, OR, Comment Period Ends: March 27, 2006, Contact: Douglas Linn 541-573-4543.

EIS No. 20060037, Final EIS, AFS, IN, German Ridge Restoration Project, to Restore Native Hardwood Communities, Implementation, Hoosier National Forest, Tell City Ranger District, Perry County, IN, Wait Period Ends: March 13, 2006, Contact: Ron Ellis 812-275-5987.

EIS No. 20060038, Draft EIS, BLM, UT, Greater Deadman Bench Oil and Gas Producing Region, Proposes to Develop Oil and Gas Resources, Right-of-Way Grants and Applications for Permit to Drill, Vernal, Uintah County, UT, Comment Period Ends: March 27, 2006, Contact: Stephanie Howard 435-781-4400.

EIS No. 20060039, Final EIS, FAA, AZ, Phoenix Sky Harbor International Airport (PHX), Construction and Operation of a Terminal, Airfield and Surface Transportation, City of Phoenix, Maricopa County, AZ, Wait Period Ends: March 13, 2006, Contact: Jennifer Mendelsohn 310-725-3637.

EIS No. 20060040, Final EIS, FHW, AK, Juneau Access Transportation Project, Improvements in the Lynn Canal/Taiya Inlet Corridor between Juneau and Haines/Skagway, Special-Use-Permit and COE Section 10 and 404 Permits, Tongass National Forest, Klondike Gold Rush National Historic Park, Haines States Forest, City and Borough of Juneau, Haines Borough, Cities Haines and Skagway, AK, Wait Period Ends: March 13, 2006, Contact: Tim A. Haugh 907-586-7430.

EIS No. 20060041, Draft Supplement, COE, FL, South Florida Water Management District, (SFWMD), Proposes Construction and Operation Everglades Agricultural Area Reservoir A-1 Project, Lake Okeechobee, Palm Beach County, FL, Comment Period Ends: March 27, 2006, Contact: Tori White 561-472-8888.

EIS No. 20060042, Draft EIS, NPS, TN, Great Smoky Mountains National Park General Management Plan Amendment, Implementation, Elkmont Historic District, Sevier County, TN, Comment Period Ends: May 11, 2006, Contact: Amy Wirsching 404-562-3124 Ext-607.

EIS No. 20060043, Final EIS, AFS, CO, Rock Creek Integrated Management Project, Propose Treatment to Address Mountain Beetle Epidemics, and to Reduce Wildfires within the Rock Creek Analysis Area, Medicine Bow-Routt National Forests and Thunder Basin National Grassland, Glenwood Springs Resource Area, Routt and Grand Counties, CO, Wait Period Ends: March 13, 2006, Contact: Joanne Sanfilippo 970-870-2210.

Amended Notices

EIS No. 20060035, Final EIS, AFS, OH, Wayne National Forest, Proposed Revised Land and Resource Management Plan, Implementation, Several Counties, OH, Wait Period Ends: March 6, 2006, Contact: Bob Gianniny 740-753-0882 Revision to Federal Register notice published on February 3, 2006. The above EIS should have appeared in the Federal Register on February 3, 2006.

Dated: February 6, 2006.
Robert W. Hargrove,
Director, NEPA Compliance Division, Office of Federal Activities.

[FR Doc. E6-1905 Filed 2-9-06; 8:45 am]

BILLING CODE 6560-50-P